DEPARTMENT OF ENERGY

Federal Energy Regulatory Commission

[Docket Nos. CP09-6-001; CP09-7-001; Docket No. CP13-507-000]

LNG Development Company, LLC; Oregon Pipeline Company, LLC; Northwest Pipeline LLC; Notice of Public Meetings for Comments On the Draft Environmental Impact Statement for the Oregon LNG Terminal and Pipeline Project and Washington Expansion Project

The staff of the Federal Energy Regulatory Commission (Commission) has prepared a draft environmental impact statement (EIS) for the Oregon LNG Terminal and Pipeline Project proposed by LNG Development Company, LLC and Oregon Pipeline Company, LLC and the Washington Expansion Project proposed by Northwest Pipeline LLC in the above-referenced dockets. The draft EIS was issued on August 5, 2015, and the public comment period for the document will end on October 6, 2015. The notice of availability for the draft EIS clarifies the methods to submit written and electronic comments. In lieu of sending written or electronic comments, the Commission invites you to attend one of the public comment meetings its staff will conduct in the project area to receive oral comments on the draft EIS. Transcripts of the meetings will be available for review in eLibrary under the project docket numbers. The meeting times and locations are provided below.

Date and time | Location
September 14, 2015, 6 p.m.-9 p.m | Kent Senior Activity Center, 600 East Smith Street, Kent, Washington 98030, (253) 856-5150.
September 15, 2015, 6 p.m.-9 p.m | Sedro-Woolley Community Center, 703 Pacific Street, Sedro-Woolley, Washington 98284, (360) 855-3568.
September 16, 2015, 6 p.m.-9 p.m | Snohomish Senior Center, 506 4th Street, Snohomish, WA 98290, (360) 568-0934.
September 17, 2015, 6 p.m.-9 p.m | Southwest Washington Fairgrounds-Community Events Building, 2555 N National Avenue, Chehalis, Washington 98532, (360) 736-6072.
September 21, 2015, 1 p.m.-4 p.m | Clatsop County Fairgrounds-Exhibit Hall, 92937 Walluski Loop, Astoria, Oregon 97103, (503) 325-4600.
September 21, 2015, 6 p.m.-9 p.m | Clatsop County Fairgrounds-Exhibit Hall, 92937 Walluski Loop, Astoria, Oregon 97103, (503) 325-4600.
September 22, 2015, 6 p.m.-9 p.m | Vernonia High School-Commons Area, 1000 Missouri Avenue, Vernonia, Oregon 97064, (503) 429-1333.
September 23, 2015, 6 p.m.-9 p.m | Summit Grove Lodge, 30810 NE Timmen Road, Ridgefield, WA 98642, 360-263-6623.
September 24, 2015, 6 p.m.-9 p.m | Red Lion Hotel, 510 S Kelso Drive, Kelso, Washington 98626, (360) 636-4400.

The Commission's staff will begin the sign-up of speakers one-half hour before the meeting begins. The comment meeting will begin with a brief description of our environmental review process by Commission staff, after which speakers will be called. The meeting will end once all speakers have provided their comments or at the end time for each meeting stated above, whichever comes first. If a significant number of people are interested in providing verbal comments, a time limit of three minutes may be implemented for each commenter to ensure all those wishing to comment have the opportunity to do so within the designated meeting time. Speakers should structure their oral comments accordingly. If time limits are implemented, they will be strictly enforced to ensure that as many individuals as possible are given an opportunity to comment. It is important to note that oral comments hold the same weight as written or electronically submitted comments.

Dated: August 17, 2015.
Kimberly D. Bose,
Secretary.

[FR Doc. 2015-20742 Filed 8-20-15; 8:45 am]

BILLING CODE 6717-01-P